DEPARTMENT OF THE INTERIOR

Fish and Wildlife Service

50 CFR Part 17

[Docket Nos. FWS-R4-ES-2022-0104, FWS-R4-ES-2022-0116, FWS-R4-ES-20220125, FWS-R4-ES-2022-0022; FF09E21000 FXES1111090FEDR 234]

RINs 1018-BG24; 1018-BE51; 1018-BE48; 1018-BE84

Endangered and Threatened Wildlife and Plants; Extending the Comment Periods for Four Proposed Rules

AGENCY: Fish and Wildlife Service, Interior.

ACTION: Proposed rules; extension of the comment periods.

SUMMARY: We, the U.S. Fish and Wildlife Service (Service), announce that we are extending the comment periods for four proposed rules under the Endangered Species Act of 1973 (Act), as amended. On September 27, 2022, we published a proposed rule to list the Florida Keys mole skink (Plestiodon egregius egregius) as a threatened species with a rule issued under section 4(d) of the Act and to designate its critical habitat. On October 14, 2022, we published proposed rules to designate critical habitat for Chamaecrista lineata var. keyensis (Big Pine partridge pea), Chamaesyce deltoidea ssp. serpyllum (wedge spurge), Linum arenicola (sand flax), and Argythamnia blodgettii (Blodgett's silverbush); to designate critical habitat for Sideroxylon reclinatum ssp. austrofloridense (Everglades bully), Digitaria pauciflora (Florida pineland crabgrass), Chamaesyce deltoidea ssp. pinetorum (pineland sandmat), and Dalea carthagenensis var. floridana (Florida prairie-clover); to list the Key ring-necked snake (Diadophis punctatus acricus) and the rim rock crowned snake (Tantilla oolitica) as endangered species, and to designate critical habitat for the Key ring-necked snake and the rim rock crowned snake. We are extending the comment period for each of these proposed rules to allow all interested parties additional time to comment on the proposed rules following the impacts of Hurricane Ian. Comments previously submitted need not be resubmitted, as they will be fully considered in preparing the final determinations.

DATES: The comment periods for the proposed rules published on September 27, 2022, at 87 FR 58648, and on October 14, 2022, at 87 FR 62502, 87 FR 62564, and 87 FR 62614 are extended. We will accept comments received or postmarked on or before January 12, 2023. Comments submitted electronically using the Federal eRulemaking Portal (see ADDRESSES, below) must be received by 11:59 p.m. eastern time on the closing date.

ADDRESSES:

Availability of documents: You may obtain copies of the proposed rules and associated documents on the internet at https://www.regulations.gov under the appropriate docket number (see Table 1, below).

Written comments: You may submit written comments by one of the following methods:

(1) Electronically: Go to the Federal eRulemaking Portal: https://www.regulations.gov. In the Search box, enter the appropriate docket number (see table 1, below). Then, click on the Search button. On the resulting page, in the Search panel on the left side of the screen, under the Document Type heading, check the Proposed Rule box to locate this document. You may submit a comment by clicking on “Comment.” Please ensure you have found the correct document before submitting your comments. If your comments will fit in the provided comment box, please use this feature of https://www.regulations.gov, as it is most compatible with our comment review procedures. If you attach your comments as a separate document, our preferred file format is Microsoft Word. If you attach multiple comments (such as form letters), our preferred format is a spreadsheet in Microsoft Excel.

(2) By hard copy: Submit by U.S. mail to: Public Comments Processing, Attn: [Insert appropriate docket number; see table 1, below], U.S. Fish and Wildlife Service, MS: PRB/3W, 5275 Leesburg Pike, Falls Church, VA 22041-3803.

We request that you send comments only by the methods described above. We will post all comments on https://www.regulations.gov. This generally means that we will post any personal information you provide us (see SUPPLEMENTARY INFORMATION, below, for more information).

FOR FURTHER INFORMATION CONTACT: Lourdes Mena, Division Manager, Classification and Recovery, Florida Ecological Services Field Office, 7915 Baymeadows Way, Suite 200, Jacksonville, FL 32256-7517; lourdes_mena@fws.gov; telephone 904-731-3134. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Table 1—List of Proposed Rules Extended for Public Comment
Proposed rule title | Federal Register citation | Docket No.
Florida Keys Mole Skink Threatened Species Status and Critical Habitat Designation | 87 FR 58648; September 27, 2022 | FWS-R4-ES-2022-0104
Big Pine Partridge Pea, Wedge Spurge, Sand Flax, and Blodgett's Silverbush Critical Habitat Designation | 87 FR 62502; October 14, 2022 | FWS-R4-ES-2022-0116
Everglades Bully, Florida Pineland Crabgrass, Pineland Sandmat, and Florida Prairie-Clover Critical Habitat Designation | 87 FR 62564; October 14, 2022 | FWS-R4-ES-2022-0125
Key Ring-Necked Snake and Rim Rock Crowned Snake Endangered Species Status and Critical Habitat Designation | 87 FR 62614; October 14, 2022 | FWS-R4-ES-2022-0022

On September 27, 2022, we published a proposed rule to list the Florida Keys mole skink as a threatened species under the Act (16 U.S.C. 1531 et seq.) with a proposed 4(d) rule, and to designate its critical habitat (87 FR 58648). The proposed rule established a 60-day public comment period, ending November 28, 2022. We are extending this comment period until January 12, 2023. Please refer to the proposed rule for more information on our proposed actions and the specific information we seek.

On October 14, 2022, we published proposed rules to designate critical habitat for Big Pine partridge pea, wedge spurge, sand flax, and Blodgett's silverbush (87 FR 62502); to designate critical habitat for Everglades bully, Florida pineland crabgrass, pineland sandmat, and Florida prairie-clover (87 FR 62564); to list the Key ring-necked snake and rim rock crowned snake as endangered species, and to designate critical habitat for the Key ring-necked snake and the rim rock crowned snake (87 FR 62614). The proposed rules established a 60-day public comment period, ending December 13, 2022. We are extending these comment periods until January 12, 2023. Please refer to the proposed rules for more information on our proposed actions and the specific information we seek.

On September 28, 2022, Hurricane Ian made landfall along the southwest Florida coast. Due to the impacts from the hurricane and the ongoing recovery efforts, the Service received multiple requests for additional time to review and comment on the proposed rules. We are therefore extending the comment period for these proposed rules (see table 1) by a minimum of an additional 30 days, until January 12, 2023.

If you already submitted comments or information on the September 27, 2022 (87 FR 58648) and October 14, 2022 (87 FR 62502, 87 FR 62564, 87 FR 62614) proposed rules, please do not resubmit them. Any such comments are incorporated as part of the public record of the rulemaking proceeding, and we will fully consider them in the preparation of our final determination.

Comments should be as specific as possible. Please include sufficient information with your submission (such as scientific journal articles or other publications) to allow us to verify any scientific or commercial information you assert. Please note that submissions merely stating support for, or opposition to, the action under consideration without providing supporting information, although noted, will not be considered in making a determination, as section 4(b)(1)(A) of the Act directs us to make determinations as to whether any species is an endangered species or a threatened species “solely on the basis of the best scientific and commercial data available.”

You may submit your comments and materials by one of the methods listed in ADDRESSES. We request that you send comments only by the methods described in ADDRESSES.

If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov.

Authors

The primary authors of this document are the Ecological Services staff of the Southeast Regional Office, U.S. Fish and Wildlife Service.

Authority

The authority for this action is the Endangered Species Act of 1973, as amended (16 U.S.C. 1531 et seq.).

Stephen Guertin,
Acting Director, U.S. Fish and Wildlife Service.

[FR Doc. 2022-25918 Filed 11-25-22; 8:45 am]

BILLING CODE 4333-15-P